DEPARTMENT OF TRANSPORTATION

Coast Guard

33 CFR Part 165

[USCG-2002-12227]

Safety Zones and Security Zones

AGENCY: Coast Guard, DOT.

ACTION: Notice of temporary rules issued.

SUMMARY: This document provides required notice of substantive rules issued by the Coast Guard and temporarily effective between July 1, 2001 and March 31, 2002, which were not published in the Federal Register. This quarterly notice lists temporary local regulations of limited duration and for which timely publication in the Federal Register was not possible.

DATES: This notice lists temporary Coast Guard regulations that became effective and were terminated between July 1, 2001 and March 31, 2002.

ADDRESSES: The Docket Management Facility maintains the public docket for this notice. Documents indicated in this notice will be available for inspection or copying at the Docket Management Facility, U.S. Department of Transportation, Room PL-401, 400 Seventh Street SW., Washington, DC 20593-0001 between 9 a.m. and 5 p.m., Monday through Friday, except Federal Holidays. You may electronically access the public docket for this notice on the Internet at http://dms.dot.gov.

FOR FURTHER INFORMATION CONTACT: For questions on this notice, contact LTJG Sean Fahey, Office of Regulations and Administrative Law, telephone (202) 267-2830. For questions on viewing, or on submitting material to the docket, contact Dorothy Beard, Chief, Dockets, Department of Transportation (202) 366-5149.

SUPPLEMENTARY INFORMATION: District Commanders and Captains of the Port (COTP) must be immediately responsive to the safety and security needs of the waters within their jurisdiction; therefore, District Commanders and COTPs have been delegated the authority to issue certain local regulations. Safety zones may be established for safety or environmental purposes. Security zones limit access to vessels, ports, or waterfront facilities to prevent injury or damage. Safety and security zones may be stationary and described by fixed limits or it may be described as a zone around a vessel in motion. Timely publication of these regulations in the Federal Register is often precluded when a regulation responds to an emergency, or when an event occurs without sufficient advance notice. The affected public is, however, informed of these regulations through Local Notices to Mariners, press releases, and other means. Moreover, actual notification is provided by Coast Guard patrol vessels enforcing the restrictions imposed by the regulation. Because Federal Register publication was not possible before the beginning of the effective period, mariners were personally notified of the contents of these special local regulations, security zones, or safety zones by Coast Guard officials on-scene prior to the enforcement action. However, the Coast Guard, by law, must publish in the Federal Register notice of substantive rules adopted. To meet this obligation without imposing undue expense on the public, the Coast Guard periodically publishes a list of these temporary security zones and safety zones. Permanent regulations are not included in this list because they are published in their entirety in the Federal Register. Temporary regulations may also be published in their entirety if sufficient time is available to do so before they are placed in effect or terminated. The safety zones and security zones listed in this notice have been exempted from review under Executive Order 12866 because of their emergency nature, or limited scope and temporary effectiveness.

The following regulations were placed in effect temporarily during the period from July 1, 2001 through March 31, 2002, unless otherwise indicated. This notice also includes regulations that were not received in time to be included on the quarterly notice for the third and fourth quarter of 2001.

Dated: May 1, 2002.
S.G. Venckus,
Chief, Office of Regulations and Administrative Law.

COTP Quarterly Report.—1st Quarter 2002
COTP docket | Location | Type | Effective date
ACTBALT 02-001 | POCOMOKE CITY, MARYLAND | SAFETY ZONE | 01/18/2002
CHARLESTON 02-012 | COOPER RIVER, SOUTH CAROLINA | SECURITY ZONE | 02/19/2002
CORPUS CHRISTI 02-002 | PORT OF CORPUS CHRISTI, TEXAS | SECURITY ZONE | 03/09/2002
HOUSTON-GALVESTON 02-003 | GALVESTON, TEXAS | SECURITY ZONE | 03/19/2002
HOUSTON-GALVESTON 02-004 | GALVESTON, TEXAS | SECURITY ZONE | 03/29/2002
JACKSONVILLE 02-005 | ATLANTIC OCEAN, DAYTON BEACH, FL | SECURITY ZONE | 01/30/2002
JACKSONVILLE 02-010 | PORT CANAVERAL, FL | SECURITY ZONE | 02/13/2002
JACKSONVILLE 02-016 | COCOA, FL | SAFETY ZONE | 02/23/2002
JACKSONVILLE 02-017 | MATANZAS RIVER, ST. AUGUSTINE, FL | SAFETY ZONE | 02/22/2002
LA/LONG BEACH 02-001 | LOS ANGELES HARBOR, CALIFORNIA | SECURITY ZONE | 01/07/2002
MEMPHIS 02-001 | LWR MISSISSIPPI RIVER, M. 595 TO 618 | SAFETY ZONE | 01/10/2002
MEMPHIS 02-003 | MCCLELLAN-KERR ARKANSAS RIVER | SAFETY ZONE | 02/13/2002
MEMPHIS 02-004 | LWR MISSISSIPPI RIVER, M. 733 TO 736 | SAFETY ZONE | 02/13/2002
MEMPHIS 02-005 | MCCLELLAN-KERR ARKANSAS RIVER | SAFETY ZONE | 02/28/2002
MEMPHIS 02-006 | MCCLELLAN-KERR ARKANSAS RIVER | SAFETY ZONE | 03/16/2002
MOBILE 02-001 | WEST PASCAGOULA RIVER AND BAY | SAFETY ZONE | 01/21/2002
MOBILE 02-002 | CHOCTAWHATCHEE BAY, FLORIDA | SECURITY ZONE | 02/04/2002
MOBILE 02-003 | MOBILE RIVER, MOBILE, ALABAMA | SAFETY ZONE | 03/01/2002
MORGAN CITY 02-001 | EUGENE ISLAND SEA BUOY TO MM 119.8 | SAFETY ZONE | 03/12/2002
NEW ORLEANS 02-001 | LWR MISSISSIPPI RIVER, M. 99 TO 102 | SECURITY ZONE | 01/15/2002
NEW ORLEANS 02-002 | LWR MISSISSIPPI RIVER, M. 92.6 TO 98.2 | SECURITY ZONE | 02/01/2002
NEW ORLEANS 02-003 | LUNDI GRASS BOAT PARADE, M. 94 TO 96 | SAFETY ZONE | 02/11/2002
NEW ORLEANS 02-006 | RIGOLETS RAILROAD DRAW BRIDGE | SAFETY ZONE | 03/18/2002
PADUCAH 02-001 | TENNESSEE RIVER, M. 446 TO 471 | SAFETY ZONE | 01/24/2002
PADUCAH 02-002 | TENNESSEE RIVER, M. 0 TO 003.5 | SAFETY ZONE | 01/29/2002
PADUCAH 02-003 | TENNESSEE RIVER, M. 002 TO 003 | SAFETY ZONE | 02/07/2002
PADUCAH 02-004 | TENNESSEE RIVER, M. 446 TO 454.6 | SAFETY ZONE | 03/18/2002
PITTSBURGH 02-003 | MONONGAHELA RIVER, M. 0 TO 0.5 | SECURITY ZONE | 02/05/2002
PITTSBURGH 02-004 | OHIO RIVER, M. 14.8 | SAFETY ZONE | 02/27/2002
PITTSBURGH 02-006 | OHIO RIVER, M. 24 TO 25 | SAFETY ZONE | 03/09/2002
PORT ARTHUR 02-001 | PORT ARTHUR, TX | SAFETY ZONE | 02/10/2002
SAN DIEGO 02-002 | SAN DIEGO, CA | SAFETY ZONE | 02/06/2002
SAN FRANCISCO BAY 02-001 | OFFSHORE OF SAN FRANCISCO, CA | SAFETY ZONE | 02/08/2002
WESTERN ALASKA 02-002 | COOK INLET, AK | SECURITY ZONE | 01/08/2002
WESTERN ALASKA 02-006 | S/S ARCTIC SUN, COOK INLET, AK | SECURITY ZONE | 01/19/2002

District Quarterly Report.—1st Quarter 2002
District docket | Location | Type | Effective date
01-02-008 | PRESIDENTIAL VISITS, PORTLAND, ME | SAFETY ZONE | 01/25/2002
01-02-022 | PORTLAND, ME | SAFETY ZONE | 02/22/2002
05-02-001 | HAMPTON ROADS, ELIZABETH RIVER, VA | SECURITY ZONE | 01/14/2002
05-02-001a | HAMPTON ROADS, ELIZABETH RIVER, VA | SECURITY ZONE | 01/15/2002
05-02-002 | HAMPTON ROADS, ELIZABETH RIVER, VA | SECURITY ZONE | 02/07/2002
05-02-010 | ELK RIVER, CHESAPEAKE BAY, MARYLAND | SAFETY ZONE | 03/04/2002
05-02-011 | HAMPTON ROADS, ELIZABETH RIVER, VA | SECURITY ZONE | 03/21/2002
09-02-002 | LAKE ST. CLAIR, HARRISON TWP., MI | SAFETY ZONE | 02/16/2002
13-02-001 | PORTLAND INTERNATIONAL AIRPORT | SECURITY ZONE | 01/05/2002
13-2-005 | AIRCRAFT IN THE WATER, ELLIOTT BAY, WA | SAFETY ZONE | 03/28/2002

Regulations Not on Previous 3rd and 4th Quarterly Report
District/COTP | Location | Type | Effective date
DISTRICT REGULATION FOR 3RD QUARTER
CGD09-01-062 | LAKE ONTARIO, OSWEGO, NEW YORK | SAFETY ZONE | 07/01/01
COTP REGULATIONS FOR 4TH QUARTER
CORPUS CHRISTI 01-003 | INNER HARBOR, CORPUS CHRISTI, TX | SAFETY ZONE | 10/01/01
JACKSONVILLE 01-131 | ST. JOHN'S RIVER, JACKSONVILLE, FL | SAFETY ZONE | 10/27/01
PITTSBURGH 01-005 | OHIO RIVER, M. 119 TO 119.8 | SAFETY ZONE | 10/15/01
PITTSBURGH 01-006 | OHIO RIVER, M. 34.6 TO 35.1 | SAFETY ZONE | 10/15/01
WESTERN ALASKA 01-007 | PHILLIPS PETROLEUM, LNG PIER, NIKISKI, AK | SECURITY ZONE | 10/19/01

[FR Doc. 02-11277 Filed 5-6-02; 8:45 am]

BILLING CODE 4910-15-M